ENVIRONMENTAL PROTECTION AGENCY

[EPA-R05-SFUND-2023-0446; FRL-11373-01-Region 5]

Proposed CERCLA Administrative Cost Recovery Settlement; Seerley Road Site, Indianapolis, Indiana [EPA Agreement V-W-24-C-001]

AGENCY: Environmental Protection Agency (EPA).

ACTION: Notice: request for public comment.

SUMMARY: In accordance with section 122(i) of the Comprehensive Environmental Response, Compensation, and Liability Act of 1980, as amended (“CERCLA”), notice is hereby given by the U.S. Environmental Protection Agency (“EPA”), Region 5, of a proposed administrative settlement for recovery of past response costs concerning the Seerley Rd Fire Site (Site) in Indianapolis, Indiana with the following parties: Steven Williamson and Joel I. Williamson Junior, as the Settling Parties and Respondents. The settlement requires the Respondents to pay $800,000 in past response costs. The settlement includes a covenant not to sue pursuant to sections 106 and 107 of CERCLA, relating to the Site, subject to limited reservations, and protection from contribution actions or claims as provided by section 113(f)(2) of CERCLA. For thirty (30) days following the date of publication of this notice, the EPA will receive written comments relating to the cost recovery component of this settlement. The EPA will consider all comments received and may modify or withdraw its consent to the settlement if comments received disclose facts or considerations that indicate that the proposed settlement is inappropriate, improper, or inadequate. The EPA's response to any comments received will be available for public inspection at www.epa.gov/superfund/seerley-road-fire.

DATES: Comments must be submitted on or before December 20, 2023.

ADDRESSES: The proposed settlement is available for public inspection at www.epa.gov/superfund/seerley-road-fire. Submit your comments, identified by Docket ID No. EPA-R05-SFUND-2023-0446, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Eric Brooks, Investigator, EPA, Region 5, Superfund & Emergency Management Division, 77 West Jackson Blvd., Chicago, IL 60604; email: brooks.eric@epa.gov; phone: (312) 353-8655.

Douglas Ballotti,
Director, Superfund & Emergency Management Division, Region 5.

[FR Doc. 2023-25610 Filed 11-17-23; 8:45 am]

BILLING CODE 6560-50-P